FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted March 1, 2011 Thru March 31, 2011

03/01/2011

20110548 G Alcoa Inc.; TransDigm Group Incorporated; Alcoa Inc.

20110580 G James J. Parker; Caterpillar Inc.; James J. Parker

03/07/2011

20110574 G Summit Partners Private Equity Fund VII-A. L.P.; Answers Corporation; Summit Partners Private Equity Fund VII-A. L.P.

20110589 G GTCR Fund IX/A, L.P.; Sterigenics Holdings, Inc.; GTCR Fund IX/A. L.P.

20110591 G BHP Billiton Limited; Chesapeake Energy Corporation; BHP Billiton Limited

20110601 G First Reserve Fund XI, L.P.; Energy Spectrum Partners V, L.P.; First Reserve Fund XI, L.P.

20110602 G News Corporation; Shine Limited; News Corporation

20110614 G Clayton, Dubilier & Rice Fund VIII, L.P.; Emergency Medical Services Corporation; Clayton, Dubilier & Rice Fund VIII, L.P.

03/08/2011

20110592 G Danaher Corporation, Beckman Coulter, Inc.; Danaher Corporation

20110594 G Oglethorpe Power Corporation: KGen Power Corporation; Oglethorpe Power Corporation

20110604 G American Securities Partners V, L.P.; Integrated Solutions, LLC; American Securities Partners V, L.P.

20110608 G Station Holdco LLC; Station Casinos, Inc. (Debtor-in-Possession); Station Holdco LLC

03/09/2011

20110597 G JLL Partners Fund V, L.P.; Credit Suisse Group AG, JLL Partners Fund V, L.P.

20110615 G Waud Capital Partners QP II, L.P.; TA IX L.P.; Waud Capital Partners QP II, L.P.

03/10/2011

20110551 G Quanex Building Products Corporation; Lauren Holdco Inc. Quanex Building Products Corporation

03/11/2011

20110609 G Lindsay Goldberg III, L.P.; Lockheed Martin Corporation; Lindsay Goldberg III, L.P.

20110611 G Golden Gate Capital Opportunity Fund, L.P.; Conexant Systems, Inc.;, Golden Gate Capital Opportunity Fund, L.P.

20110625 G Golden Gate Capital Opportunity Fund, L.P. Tollgrade Communications, Inc. (PA); Golden Gate Capital Opportunity Fund. L.P.

20110630 G EQT V (No. 1) Limited Partnership; DHAB I S.A.; EQT V (No. 1) Limited Partnership

03/14/2011

20110460 G The Schreiber Foods, Inc., Employee Stock Ownership Plan; Dean Foods Company; The Schreiber Foods, Inc., Employee Stock Ownership Plan

20110571 G OIP Safway AIV, L.P.; Red Bear Holdings, Inc.; OIP Safway AIV, L.P.

20110632 G Reyes Holdings, L.L.C.; Schenck Company; Reyes Holdings, L.L.C.

03/15/2011

20110595 G Elliott International Limited; Iron Mountain Incorporated; Elliott International Limited

20110596 G Elliott Associates, L.P.; Iron Mountain Incorporated; Elliott Associates, L.P.

20110637 G Cerberus Institutional Partners, L.P.; Kevin J. Keane and Cindy M. Keane; Cerberus Institutional Partners, L.P.

20110638 G Cerberus Institutional Partners, L.P.; Shawn J. Keane and Jacquelyn M. Keane; Cerberus Institutional Partners, L.P.

03/16/2011

20110575 G Becton, Dickinson and Company; Accuri Cytometers, Inc.; Becton, Dickinson and Company

20110616 G Hewlett-Packard Company; Vertica Systems, Inc.; Hewlett-Packard Company

03/17/2011

20110581 G Atlantic Health System, Inc.; North Jersey Health Care Corporation; Atlantic Health System, Inc.

20110590 G Saptuo Inc.; GTCR Fund VIII, L.P.; Saptuo Inc.

20110641 G Watsco, Inc.; Carrier Enterprise II, LLC; Watsco, Inc.

03/18/2011

20110639 G Holly Corporation; Frontier Oil Corporation; Holly Corporation

20110640 G Algonquin Power and Utilities Corp.; National Grid plc; Algonquin Power and Utilities Corp.

20110644 G Nomura Holdings, Inc.; BATS Global Markets, Inc.; Nomura Holdings, Inc.

20110645 G Bank of America Corporation; BATS Global Markets, Inc.; Bank of America Corporation

20110648 G China National Chemical Corporation; Makhteshim Agan Industries Ltd.; China National Chemical Corporation

20110650 G Anne Ray Charitable Trust; Cargill, Incorporated; Anne Ray Charitable Trust

20110651 G Margaret A. Cargill Foundation; Cargill, Incorporated; Margaret A. Cargill Foundation

20110653 G Intertek Group plc; Moody International Limited: Intertek Group plc

20110656 G EPCOR Utilities Inc.; Brick Power Holdings LLC; EPCOR Utilities Inc.

20110660 G Exchange Income Corporation; Westower, LLC; Exchange Income Corporation

03/21/2011

20110538 G Meggitt PLC; Danaher Corporation; Meggitt PLC

20110579 G BAE Systems plc; Carlyle-FIS Acquisition Company, L.L.C.; BAE Systems plc

20110587 G Hercules Holding II, LLC; Catholic Health East; Hercules Holding II, LLC

20110619 G Gilead Sciences, Inc.; Calistoga Pharmaceuticals, Inc.; Gilead Sciences, Inc.

03/22/2011

20110635 G Daiichi Sankyo Company, Limited; Plexxikon Inc.; Daiichi Sankyo Company, Limited

03/23/2011

20110137 G Amazon.com, Inc.; Quidsi, Inc.; Amazon.com, Inc.

20110603 G Ares Corporate Opportunities Fund III, L.P.; Global Defense Technology & Systems, Inc.; Ares Corporate Opportunities Fund III, L.P.

20110631 G National Oilwell Varco, Inc.; Empeiria Conner LLC; National Oilwell Varco, Inc.

03/24/2011

20110251 G Brambles Limited; Island International Investment Limited Partnership; Brambles Limited

20110634 G Quest Diagnostics Incorporated; Thermo Fisher Scientific Inc.; Quest Diagnostics Incorporated

20110654 G Gibraltar Industries, Inc., Altus Capital Partners SBIC Parent, L.P.; Gibraltar Industries, Inc.

20110657 G CSR plc; Zoran Corporation, CSR plc

03/25/2011

20110636 G Giles Martin; Thermo Fisher Scientific Inc.; Giles Martin

20110661 G HOV Services Limited; SCH Services Inc.; HOV Services Limited

20110662 G Apollo Investment Fund V, L.P.; SCH Services Inc.; Apollo Investment Fund V, L.P.

20110665 G R. Marcelo Claure, eSecuritel Holdings. LLC; R. Marcelo Claure

20110667 G Catalyst Health Solutions, Inc.; Walgreen Co.; Catalyst Health Solutions, Inc.

03/28/2011

20110669 G Wellspring Capital Partners IV, L.P.; Mr. James R. Scheele; Wellspring Capital Partners IV, L.P.

20110670 G Berkshire Fund VII, L.P.; James E. Hoffman, Jr.; Berkshire Fund VII, L.P.

20110672 G EPCOR Utilities Inc.; LS Power Equity Partners II, L.P.; EPCOR Utilities Inc.

20110677 G Astellas Pharma Inc.; Maxygen, Inc.; Astellas Pharma Inc.

03/29/2011

20110606 G Verizon Communications Inc.; Terremark Worldwide, Inc.; Verizon Communications Inc.

20110668 G Blackstone Capital Partners V, L.P.; Rikco International, LLC; Blackstone Capital Partners V, L.P.

20110673 G New Mountain Partners III, L.P,; Quad-C Partners VI, L.P.; New Mountain Partners III; L.P.

03/30/2011

20110610 G Ensco plc; Pride International, Inc., Ensco plc

20110627 G Hercules Offshore, Inc.; Seahawk Drilling, Inc.; Hercules Offshore, Inc.

20110649 G Teradata Corporation; Aster Data Systems, Inc.; Teradata Corporation

20110652 G Clariant AG; J.P. Morgan Chase & Co.; Clariant AG

03/31/2011

20110618 G General Electric Company; John Wood Group PLC; General Electric Company

FOR FURTHER INFORMATION CONTACT: Sandra M. Peay, Contact Representative, or Renee Chapman, Contact Representative, Federal Trade Commission, Premerger Notification Office, Bureau Of Competition, Room H-303, Washington, DC 20580, (202) 326-3100.

By Direction of the Commission.
Donald S. Clark,
Secretary.

[FR Doc. 2011-8331 Filed 4-8-11; 8:45 am]

BILLING CODE 6750-01-M